DEPARTMENT OF AGRICULTURE

Rural Utilities Service

Powering Affordable Clean Energy (PACE) Program

AGENCY: Rural Utilities Service, USDA.

ACTION: Notice; announcement of the opening of the online application window for the PACE Program.

SUMMARY: The Rural Utilities Service, a Rural Development agency of the United States Department of Agriculture (USDA), hereinafter referred to as “RUS” or “the Agency” announced its intent to solicit Letters of Interest (LOI) for loan applications under the Powering Affordable Clean Energy (PACE) Program in a Notice of Funding Opportunity (NOFO) on May 16, 2023, in the Federal Register. In addition, the NOFO also announced the application process for those loans and provided deadlines for applications from eligible entities. Loans will be made to qualified PACE Applicants to finance power generation projects for Renewable Energy Resource (RER) Systems or Energy Storage Systems that support RER Projects. This Notice announces a new opening date for PACE LOI submissions as well as an update on how to submit an LOI and additional information that must be submitted.

DATES: The Agency will begin accepting LOIs for the PACE Program beginning at 11:59 a.m. Eastern Time (ET) on July 10, 2023, and until 11:59 p.m. ET on September 29, 2023.

ADDRESSES: All LOIs must be submitted to RUS electronically at www.grants.gov. Additional information and resources are available at https://www.rd.usda.gov/programs-services/electric-programs/powering-affordable-clean-energy-pace-program. The Inflation Reduction Act of 2022 funding for Rural Development website is located at https://www.rd.usda.gov/inflation-reduction-act.

FOR FURTHER INFORMATION CONTACT: Christopher McLean, Assistant Administrator, Electric Program, Rural Utilities Service, Rural Development, United States Department of Agriculture, 1400 Independence Avenue SW, STOP 1568, Washington, DC 20250-1560; Telephone: 202-690-4492. Email to: SM.RD.RUS.IRA.Questions@usda.gov.

SUPPLEMENTARY INFORMATION:

Authority: The PACE Program is authorized under Section 22001 of the Inflation Reduction Act (IRA), Public Law 117-169.

Overview

Federal Awarding Agency Name: Rural Utilities Service.

Funding Opportunity Title: Powering Affordable Clean Energy (PACE) Program.

Announcement Type: Announcement of the Opening of the On-Line Application Window for the PACE Program.

Assistance Listing Number: 10.757.

Funding Opportunity Number: RUS-PACE-2023.

LOI Submission Information: RUS will accept electronic submission of LOIs through Grants.gov. RUS will not accept paper, facsimile, or email transmission.

I. Background

On August 16, 2022, The Biden Harris Administration and the United State Congress passed the Inflation Reduction Act of 2022 which authorized the PACE Program. The goal of the PACE Program is to support clean, affordable energy growth across America by providing loans to eligible entities, with varying levels of loan forgiveness, for projects that generate and/or store electricity from RER.

On May 16, 2023, the Agency published a NOFO in the Federal Register (88 FR 31232) that solicited LOIs for loan applications under the PACE Program and announced the application process for those loans as well as provided deadlines for applications from eligible entities. The NOFO also informed potential Applicants that the Agency would finalize the specific requirements of submitting an LOI through the on-line application window by a separate notice in the Federal Register and on the RUS website at https://www.rd.usda.gov/programs-services/electric-programs/powering-affordable-clean-energy-pace-program. In response to stakeholder requests, RUS is pushing back the opening date for accepting LOI submissions from June 30, 2023, to July 10, 2023, to provide stakeholders more time to prepare their LOIs.

II. Letter of Interest Requirements and Submission

A. Letter of Interest Requirements

The Agency has added the requirement to submit an Application for Federal Assistance (SF 424) to the list of items needed for a complete LOI in order to accept the LOI's through Grants.gov. In addition to the SF 424, Applicants will still be required to provide the information included in Section D.1(a) of the NOFO that published in the Federal Register on May 16, 2023, (88 FR 31232). The RUS PACE website will include an LOI Guide at https://www.rd.usda.gov/programs-services/electric-programs/powering-affordable-clean-energy-pace-program. The LOI Guide will provide details on the submission of the LOI on Grants.gov, including how to provide attachments. In addition, the LOI Guide will detail how Applicants must use the RUS geospatial mapping tool to draw the service areas associated with each PACE project and then upload Shape-files to Grants.gov as part of an LOI Application. The LOI Guide will also indicate where to attach the additional requirements for the LOI, such as a copy of the Applicant's balance sheet and income statements.

B. Letter of Interest Submission

1. Application of General Assistance. Prior to official submission of an LOI, Applicants may request general assistance from the Agency if such requests are made prior to September 22, 2023. The Agency may provide general assistance as it is able, and Applicants may request assistance in the form of general assistance and consultation with an RUS GFR. Please note that RUS GFRs shall not provide strategic submission or strategic LOI advice, and Applicants are fully responsible for their submissions. Assistance may also be requested to Agency staff in the form of requests to speak at meetings, events, and conferences to explain program provisions and answer questions about this funding announcement. Responses to questions regarding program provisions and this funding announcement will be posted to the PACE FAQ page. Information on contacting an RUS GFR can be found at https://www.rd.usda.gov/contact-us/electric-gfr. For requests regarding speaking engagements, please email: SM.RD.RUS.IRA.Questions@usda.gov.

2. Letters of Interest Submission Deadlines: The Agency will begin accepting LOIs for the PACE Program beginning at 11:59 a.m. ET on July 10, 2023, and until 11:59 p.m. ET on September 29, 2023.

The LOIs must be submitted electronically thru www.grants.gov. The PACE funding opportunity in Grants.gov can be found by searching for the funding opportunity number found in the SUPPLEMENTARY INFORMATION section of this Notice. Please review the Grants.gov website at https://www.grants.gov/web/grants/register.html for instructions on the process of registering an organization as soon as possible to ensure that all electronic application deadlines are met. Grants.gov will not accept applications submitted after the deadline.

III. Program Requirements

To be eligible for an award, applications must meet all of the requirements contained in the NOFO published in the Federal Register on May 16, 2023, at 88 FR 31232. Information can also be found at https://www.rd.usda.gov/programs-services/electric-programs/powering-affordable-clean-energy-pace-program.

Andrew Berke,
Administrator, Rural Utilities Service.

[FR Doc. 2023-14266 Filed 6-30-23; 4:15 pm]

BILLING CODE 3410-15-P